ENVIRONMENTAL PROTECTION AGENCY

40 CFR Parts 52 and 70

[EPA-R07-OAR-2008-0403; FRL-8707-6]

Approval and Promulgation of Implementation Plans and Operating Permits Program; State of Iowa

AGENCY: Environmental Protection Agency (EPA).

ACTION: Proposed rule.

SUMMARY: EPA proposes to approve the State Implementation Plan (SIP) and Operating Permits Program revision submitted by the state of Iowa for the purpose of modifying and clarifying requirements for certain types of grain elevators. Specifically, the new rule revises the SIP to add special requirements for grain elevators, and the associated chapters for definitions and emission standards will be revised accordingly. The Iowa Department of Natural Resources is requiring that owners or operators of grain elevators apply best management practices and comply with the fugitive dust standard, as well as emission controls specified in required construction permits. These strategies will protect the ambient air and minimize the impact of emissions from each of the facilities.

DATES: Comments on this proposed action must be received in writing by September 24, 2008.

ADDRESSES: Submit your comments, identified by Docket ID No. EPA-R07-OAR-2008-0403, by mail to Heather Hamilton, Environmental Protection Agency, Air Planning and Development Branch, 901 North 5th Street, Kansas City, Kansas 66101. Comments may also be submitted electronically or through hand delivery/courier by following the detailed instructions in the ADDRESSES section of the direct final rule located in the rules section of this Federal Register.

FOR FURTHER INFORMATION CONTACT: Heather Hamilton at (913) 551-7039, or by e-mail at Hamilton.heather@epa.gov.

SUPPLEMENTARY INFORMATION: In the final rules section of the Federal Register, EPA is approving the state's SIP revision and Title V revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: August 15, 2008.
John B. Askew,
Regional Administrator, Region 7.

[FR Doc. E8-19518 Filed 8-22-08; 8:45 am]

BILLING CODE 6560-50-P